FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011463-004.

Title: East Coast North America to West Coast South America and Caribbean Cooperative Working Agreement.

Parties: Compania Sud Americana de Vapores S.A. (CSAV), APL Co. PTE Ltd., Hamburg-Sudamerikanische Dampfschifffahrts-Gesellschaft KG d.b.a. Crowley American Transport, Compania Chilena de Navegacion Interoceanica S.A.

Synopsis: The proposed amendment provides that the agreement will remain in effect until at least March 31, 2001, and provides for the inclusion within the agreement, slots presently allocated under the CSAV/CCNI/Columbus Space Charter Agreement, FMC Agreement No. 011653.

Agreement No.: 011689-002.

Title: Zim/CSCL Space Charter Agreement.

Parties: China Shipping Container Lines Co. Ltd., Zim Israel Navigation Co., Ltd.

Synopsis: The agreement allows the mutual chartering of slots on the parties' vessels for dry-cargo containers, reefers, and empty containers in the U.S. Pacific trades to and from the PRC, South Korea, Japan, and Taiwan.

Agreement No.: 011738.

Title: ACL/WWL Slot Charter Agreement.

Parties: Atlantic Container Line AB (ACL), Wallenius Wilhelmsen Lines AS (WWL).

Synopsis: The proposed agreement authorizes ACL to charter space on WWL vessels in the trade between Northern Europe and the U.S. Atlantic and Gulf.

Agreement No.: 201114.

Title: Oakland Evergreen Terminal Use Agreement.

Parties: City of Oakland: Board of Port Commissioners, Evergreen Marine Corp. (Taiwan) Ltd.

Synopsis: The agreement is a terminal use agreement for portions of the Ben E. Nutter Container Terminal. The agreement runs through July 31, 2005.

Dated: December 15, 2000.
By Order of the Federal Maritime Commission.
Bryant L. VanBrakle,
Secretary.

[FR Doc. 00-32421 Filed 12-19-00; 8:45 am]

BILLING CODE 6730-01-P